DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Departmental Offices within the Department of the Treasury is soliciting comments concerning the collection of Race and National Origin Identification information from job applicants.

DATES: Written comments should be received on or before July 11, 2005, to be assured of consideration.

ADDRESSES: Direct all written comments to Department of Treasury, Departmental Offices, Tracy Orrison, 1750 Pennsylvania Ave. NW., Suite 13446, Washington, DC 20006.

FOR FURTHER INFORMATION CONTACT: Requests for additional information or copies of the form(s) and instructions should be directed to Department of the Treasury, Departmental Offices, Tracy Orrison, 1750 Pennsylvania Ave, NW., Suite 13446, Washington, DC or via the Internet at Tracy.Orrison@do.treas.gov.

SUPPLEMENTARY INFORMATION: Title: Race and National Origin Identification.

OMB Number: 1505-0195.

Abstract: This form will be used to collect applicant race and national origin information electronically. The data will be used to help Treasury Bureaus identify barriers to selection and determine the demographics of the applicant pool overall.

Current Actions: There are no changes being made to the form at this time.

Type of Review: Extension.

Affected Public: Individuals or households.

Estimated Number of Respondents: 160,000.

Estimated Time Per Respondent: 5 minutes.

Estimated Total Annual Burden Hours: 8,000 hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates to capital or start-up costs and costs of operation, maintenance, and purchase of services to provide information.

Dated: June 7, 2005.
Carolyn Collins,
Director, Systems Development Division, HR Connect Program Office, Office of the Chief Information Officer, Department of the Treasury.

[FR Doc. 05-11520 Filed 6-9-05; 8:45 am]

BILLING CODE 4811-16-M